DEPARTMENT OF ENERGY

Federal Energy Regulatory Commission

Combined Notice of Filings #1

Take notice that the Commission received the following electric rate filings:

Docket Numbers: ER19-1888-002.

Applicants: Southwest Power Pool, Inc.

Description: Compliance filing: Southwestern Public Service Company Formula Rate Corrected Compliance Filing to be effective 2/1/2019.

Filed Date: 8/7/20.

Accession Number: 20200807-5095.

Comments Due: 5 p.m. ET 8/28/20.

Docket Numbers: ER20-2361-001.

Applicants: PJM Interconnection, L.L.C.

Description: Tariff Amendment: Errata to Original ISA, Service Agreement No. 5683; Queue No. AF1-199 to be effective 6/11/2020.

Filed Date: 8/10/20.

Accession Number: 20200810-5037.

Comments Due: 5 p.m. ET 8/31/20.

Docket Numbers: ER20-2425-001.

Applicants: Midcontinent Independent System Operator, Inc.

Description: Tariff Amendment: 2020-08-10 SA 3006 Duke-Jordan Creek Substitute 2nd Rev GIA (J515) to be effective 6/30/2020.

Filed Date: 8/10/20.

Accession Number: 20200810-5100.

Comments Due: 5 p.m. ET 8/31/20.

Docket Numbers: ER20-2592-001.

Applicants: WSPP Inc.

Description: Tariff Amendment: Amendment to 60 to be effective 7/28/2020.

Filed Date: 8/7/20.

Accession Number: 20200807-5119.

Comments Due: 5 p.m. ET 8/28/20.

Docket Numbers: ER20-2636-000.

Applicants: California Independent System Operator Corporation.

Description: § 205(d) Rate Filing: 2020-08-07 LGIA Among SDG&E, Sun Streams Solar 2 and CAISO to be effective 10/7/2020.

Filed Date: 8/7/20.

Accession Number: 20200807-5111.

Comments Due: 5 p.m. ET 8/28/20.

Docket Numbers: ER20-2637-000.

Applicants: Chief Conemaugh Power, LLC.

Description: § 205(d) Rate Filing: Amendment to Joint Reactive Rate Schedule to be effective 12/31/9998.

Filed Date: 8/7/20.

Accession Number: 20200807-5114.

Comments Due: 5 p.m. ET 8/28/20.

Docket Numbers: ER20-2638-000.

Applicants: PJM Interconnection, L.L.C.

Description: § 205(d) Rate Filing: Original WMPA SA No. 5729; Queue No. AF1-021 to be effective 7/9/2020.

Filed Date: 8/10/20.

Accession Number: 20200810-5031.

Comments Due: 5 p.m. ET 8/31/20.

Docket Numbers: ER20-2639-000.

Applicants: PJM Interconnection, L.L.C.

Description: § 205(d) Rate Filing: Original WMPA, Service Agreement No. 5730; Queue No. AF2-428 to be effective 7/20/2020.

Filed Date: 8/10/20.

Accession Number: 20200810-5038.

Comments Due: 5 p.m. ET 8/31/20.

Docket Numbers: ER20-2640-000.

Applicants: ISO New England Inc.

Description: ISO New England Inc. submits Second Quarter 2020 Capital Budget Report.

Filed Date: 8/10/20.

Accession Number: 20200810-5099.

Comments Due: 5 p.m. ET 8/31/20.

Docket Numbers: ER20-2642-000.

Applicants: Montour, LLC.

Description: § 205(d) Rate Filing: Certificate of Concurrence to be effective 12/31/9998.

Filed Date: 8/10/20.

Accession Number: 20200810-5150.

Comments Due: 5 p.m. ET 8/31/20.

Docket Numbers: ER20-2643-000.

Applicants: PJM Interconnection, L.L.C.

Description: § 205(d) Rate Filing: Original WMPA, Service Agreement No. 5731; Queue AF2-431 to be effective 7/27/2020.

Filed Date: 8/10/20.

Accession Number: 20200810-5153.

Comments Due: 5 p.m. ET 8/31/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 10, 2020.
Nathaniel J. Davis, Sr.,
Deputy Secretary.

[FR Doc. 2020-17832 Filed 8-13-20; 8:45 am]

BILLING CODE 6717-01-P